DEPARTMENT OF HEALTH AND HUMAN SERVICES

Centers for Disease Control and Prevention

Advisory Board on Radiation and Worker Health

AGENCY: Centers for Disease Control and Prevention (CDC), Department of Health and Human Services (HHS).

ACTION: Notice of charter renewal.

SUMMARY: The Centers for Disease Control and Prevention (CDC), within the Department of Health and Human Services (HHS), announces the renewal of the charter of the Advisory Board on Radiation and Worker Health (ABRWH).

FOR FURTHER INFORMATION CONTACT: Rashaun Roberts, Ph.D., Designated Federal Officer, Advisory Board on Radiation and Worker Health, Centers for Disease Control and Prevention, Department of Health and Human Services, 1090 Tusculum Avenue, Mailstop C-24, Cincinnati, Ohio 45226. Telephone: (513) 533-6800; Email: ocas@cdc.gov.

SUPPLEMENTARY INFORMATION: CDC is providing notice under 5 U.S.C. 1001-1014 of the renewal of the charter of the Advisory Board on Radiation and Worker Health, Centers for Disease Control and Prevention, Department of Health and Human Services. This charter has been renewed for a two-year period through March 22, 2026.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-07301 Filed 4-4-24; 8:45 am]

BILLING CODE 4163-18-P